DEPARTMENT OF DEFENSE

Department of the Army

Intent To Grant an Exclusive License of U.S. Government-Owned Patents

AGENCY: Department of the Army, DoD.

ACTION: Notice.

SUMMARY: In accordance with 35 U.S.C. 209(e) and 37 CFR 404.7 (a)(1)(i), announcement is made of the intent to grant an exclusive, royalty-bearing, revocable license to U.S. Patent 9,193,739, issued November 24, 2015, entitled, “Induction of highly specific antibodies to a hapten but not to a carrier peptide by immunization” and an exclusive within a field of use, royalty-bearing, revocable license to Patent Cooperation Treaty application PCT/US/2014/045940, filed July 9, 2014, entitled, “Methods for Enhancing the Immunostimulation Potency of Aluminum Salt-adsorbed Vaccines” to Opiant Pharmaceuticals, Inc., having its principal place of business at 401 Wilshire Blvd., 12th Floor, Santa Monica, CA 90401.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to grant of this license can file written objections along with supporting evidence, if any, within 15 days from the date of this publication. Written objections are to be filed with the Command Judge Advocate (see ADDRESSES).

Brenda S. Bowen,
Army Federal Register Liaison Officer.

[FR Doc. 2016-20489 Filed 8-25-16; 8:45 am]

BILLING CODE 5001-03-P